DEPARTMENT OF COMMERCE

National Oceanic and Atmospheric Administration

RIN 0648-XA827

South Atlantic Fishery Management Council Meeting

AGENCY: National Marine Fisheries Service (NMFS), National Oceanic and Atmospheric Administration (NOAA), Commerce.

ACTION: Meeting of the South Atlantic Fishery Management Council.

SUMMARY: The South Atlantic Fishery Management Council will hold meetings of its Spiny Lobster Committee; Law Enforcement Committee; Ecosystem-Based Management Committee; Advisory Panel Selection Committee (Closed Session); Information and Education Committee; Executive Finance Committee; Personnel Committee (Closed Session); King and Spanish Mackerel Committee; Southeast Data, Assessment and Review (SEDAR) Committee; Golden Crab Committee; Snapper Grouper Committee; and a meeting of the Full Council. The Council will take action as necessary.

The Council will also hold a public hearing, an informal public question and answer session regarding agenda items, and a public comment session. See SUPPLEMENTARY INFORMATION for additional details.

DATES: The Council meeting will be held December 5-9, 2011. See SUPPLEMENTARY INFORMATION for specific dates and times.

ADDRESSES: The meeting will be held at the Holiday Inn Brownstone Hotel, 1707 Hillsborough Street, Raleigh, NC 27605; telephone: 1-(800) 331-7919 or (919) 828-0811; fax: (919) 834-0904. Copies of documents are available from Kim Iverson, Public Information Officer, South Atlantic Fishery Management Council, 4055 Faber Place Drive, Suite 201, North Charleston, SC 29405.

FOR FURTHER INFORMATION CONTACT: Kim Iverson, Public Information Officer; telephone: (843) 571-4366 or toll free at (866)/SAFMC-10; fax: (843) 769-4520; email: kim.iverson@safmc.net.

SUPPLEMENTARY INFORMATION:

Meeting Dates

1. Spiny Lobster Committee Meeting: December 5, 2011, 1:30 p.m. until 3 p.m.

The Spiny Lobster Committee will: Receive a presentation on the process for preparing Biological Opinions; a presentation on gear marking requirements of the Large Whale Take Reduction Plan; and an overview of Spiny Lobster Amendment 11 that includes measures to help protect threatened corals including area closures for the commercial trap fishery and gear marking requirements for trap lines. The Committee will develop recommendations for approval of Amendment 11/Supplemental Environmental Impact Statement (SEIS) for public hearing.

2. Law Enforcement Committee Meeting: December 5, 2011, 3 p.m. until 4 p.m.

The Law Enforcement Committee will receive a briefing on headboat misreporting issues, a presentation on “Optimization of Surveillance and Enforcement in Remote Marine Protected Areas”, and will discuss other issues as appropriate.

3. Ecosystem-Based Management Committee Meeting: December 5, 2011, 4 p.m. until 5:30 p.m.

The Ecosystem-Based Management Committee will receive presentations on lionfish and invasive species. The Committee will review: the status of Comprehensive Ecosystem-Based Amendment (CE-BA) 2/Environmental Assessment (EA), including actions relative to octocorals, Special Management Zones (SMZs), release gear requirements in the snapper grouper fishery, and designations of Essential Fish Habitat (ESH) and Habitat Areas of Particular Concern (HAPC); the Coral Advisory Panel (AP) Meeting report; and the Habitat and Environmental Protection AP Meeting report. The Committee will provide recommendations for public scoping of CE-BA 3 and receive an update on ecosystem activities.

4. Advisory Panel Selection Committee Meeting: December 6, 2011, 8:30 a.m. until 9:30 a.m. (Closed Session).

The Advisory Panel Selection Committee will review advisory panel applications and develop recommendations for appointments.

5. Information and Education Committee Meeting: December 6, 2011, 9:30 a.m. until 11 a.m.

The Information and Education Committee will receive a briefing on the status of current outreach activities, including the recent Social Media Workshop, Special Management Zones (SMZs) and Strategic Planning. The Committee will also receive an overview of the NOAA/Council Readability Report. The Committee will develop recommendations for staff and Council consideration.

6. Executive Finance Committee Meeting: December 6, 2011, 11 a.m. until 11:30 a.m.

The Executive Finance Committee will receive a status report on the Calendar Year (CY) 2011 Council expenditures and activities; and review and discuss the development of the CY2012 Council activities' schedule and budget.

7. Personnel Committee Meeting: December 6, 2011, 11:30 a.m. until 12 noon (CLOSED).

The Personnel Committee will discuss the Executive Director performance review.

8. King and Spanish Mackerel Committee Meeting: December 6, 2011, 1:30 p.m. until 3 p.m.

The King and Spanish Mackerel Committee will review: The status of commercial and recreational catches versus quotas for species under quota management; the status of recreational catches versus quotas for species under quotas; and the status of Mackerel Amendment 18, which establishes Annual Catch Limits (ACLs) and Accountability Measures (AMs) for mackerel and cobia. The Committee will provide guidance to staff on items in draft Amendment 19, including management alternatives for prohibiting the sale of coastal migratory pelagic (CMP) species harvested under the bag limit, permit requirements, and other issues.

9. SEDAR Committee Meeting: December 6, 2011, 3 p.m. until 5 p.m.

The SEDAR Committee will receive an overview of SEDAR activities and develop SEDAR 28 appointments as necessary. The Committee will review the SEDAR Steering Committee report and develop recommendations for the next SEDAR Steering Committee meeting. The Committee will also receive a presentation on the Marine Recreational Information Program (MRIP) Electronic Logbook Study and a report from the Southeast Fisheries Science Center (SEFSC) on red snapper stock assessment possibilities in 2013.

Note: A public hearing will be held on December 6, 2011, beginning at 5:30 p.m., on Snapper Grouper Amendment 18A regarding black sea bass and improvements in data reporting, on Snapper Grouper Amendment 24 regarding red grouper, and on Snapper Grouper Amendment 20A regarding wreckfish. In addition, the Council will accept public comment on Emergency Action to modify the Annual Catch Limit (ACL) for wreckfish.

10. Golden Crab Committee Meeting: December 7, 2011, 8:30 a.m. until 10 a.m.

The Golden Crab Committee will: review the status of commercial catches versus quotas (amount landed to date); review Golden Crab Amendment 6 addressing catch shares; provide direction to staff; and approve Amendment 6 for public hearing.

11. Snapper Grouper Committee Meeting: December 7, 2011, 10 a.m. until 5 p.m. and December 8, 2011, 8:30 a.m. until 12 noon.

The Snapper Grouper Committee will: receive a report on Oculina monitoring reports; review the status of commercial catches versus quotas for species under quota management; review the status of recreational catches versus quotas for species under quotas; and address any necessary actions as the result of these reports. The Committee will also receive an update on the status of Regulatory Amendment 11, which proposes elimination of the current 240′ restriction on the harvest of some deepwater species within the snapper grouper management unit, and on the status of the corrected final Comprehensive Annual Catch Limit (ACL) Amendment, which establishes ACLs and Accountability Measures (AMs) for species that are not currently undergoing overfishing.

Additionally, the Committee will: review public hearing and draft environmental impact statements (DEIS) comments for Amendment 18A/Environmental Impact Statement (EIS) pertaining to black sea bass and data collection; modify Amendment 18A as appropriate; and approve the document for formal review by the Secretary of Commerce.

The Committee will also: Review public hearing comments for Amendment 24/Environmental Assessment (EA) regarding a rebuilding plan for red grouper, and Amendment 20A/EA pertaining to the wreckfish Individual Transferable Quotas (ITQ); modify the amendments as appropriate; and approve the documents for formal review by the Secretary of Commerce. The Committee will review the status of Amendment 18B/EA, pertaining to golden tilefish, modify the amendment as necessary and approve the document for public hearings. The Committee will also review proposed Emergency Action regarding the ACL for wreckfish and provide recommendations for Council consideration.

Note: There will be an informal public question and answer session with the Regional Administrator from the NMFS and the Council Chairman on December 7, 2011, beginning at 5:30 p.m.

Council Session: December 8, 2011, 1:30 p.m. until 5:30 p.m. and December 9, 2011, 8:30 a.m. until 12 noon.

Council Session: December 8, 2011, 1:30 p.m. until 5:30 p.m.

From 1:30 p.m. until 2 p.m., the Council will call the meeting to order, adopt the agenda, approve the September 2011 meeting minutes, and present the Law Enforcement Officer of the Year Award.

Note: A public comment period on Council agenda items will be held on December 8, 2011, beginning at 2 p.m. Please note that a Public Hearing on Snapper Grouper Amendments 18A, 24 and 20A and Emergency Action to modify the ACL for wreckfish will be held on December 6, 2011, beginning at 5:30 p.m.

From 3 p.m. until 3:15 p.m., the Council will receive a report from the Law Enforcement Committee, consider recommendations and take action as appropriate.

From 3:15 p.m. until 3:30 p.m., the Council will receive a report from the Spiny Lobster Committee, approve Amendment 11 for public hearing, consider recommendations and take action as appropriate.

From 3:30 p.m. until 3:45 p.m., the Council will receive a report from the King and Spanish Mackerel Committee, consider recommendations, and take action as appropriate.

From 3:45 p.m. until 4 p.m., the Council will receive a report from the Ecosystem-Based Management Committee, approve items in CE-BA3 for the public scoping process, consider recommendations and take action as appropriate.

From 4 p.m. until 4:15 p.m., the Council will receive a report from the Golden Crab Committee, approve Amendment 6 for public hearings, consider recommendations and take action as appropriate.

From 4:15 p.m. until 4:30 p.m., the Council will receive a report from the SEDAR Committee, appoint SEDAR 28 representatives as necessary, consider recommendations and take action as appropriate.

From 4:30 p.m. until 4:45 p.m., the Council will receive a report from the Executive Finance Committee, consider recommendations and take action as appropriate.

From 4:45 p.m. until 5 p.m., the Council will receive a report from the Advisory Panel Selection Committee, review applications and make appointments, consider recommendations and take action as appropriate.

From 5 p.m. until 5:15 p.m., the Council will receive a report from the Information and Education Committee, consider recommendations and take action as appropriate.

From 5:15 p.m. until 5:30 p.m., the Council will receive a legal briefing on litigation. (Closed Session).

Council Session: December 9, 2011, 8:30 a.m. until 12 noon.

From 8:30 a.m. until 9:30 a.m., the Council will: Receive a report from the Snapper Grouper Committee; approve Amendment 18A/EIS, Amendment 20A/EA and Amendment 24/EA for formal review by the Secretary of Commerce; approve Amendment 18B for public hearing; consider Emergency Action for modifying the ACL for wreckfish and other recommendations; and take action as appropriate.

From 9:30 a.m. until 10:45 a.m., the Council will receive status reports from the NOAA Southeast Regional Office (SERO), review and develop recommendations on Experimental Fishing Permits as necessary, and receive reports from the NMFS SEFSC.

From 10:45 a.m. until 12 noon, the Council will review agency and liaison reports and discuss other business, including upcoming meetings.

Documents regarding these issues are available from the Council office (see ADDRESSES).

Although non-emergency issues not contained in this agenda may come before this Council for discussion, those issues may not be the subjects of formal final Council action during these meetings. Council action will be restricted to those issues specifically listed in this notice and any issues arising after publication of this notice that require emergency action under section 305(c) of the Magnuson-Stevens Act, provided the public has been notified of the Council's intent to take final action to address the emergency.

Except for advertised (scheduled) public hearings and public comment, the times and sequence specified on this agenda is subject to change.

Special Accommodations

These meetings are physically accessible to people with disabilities. Requests for sign language interpretation or other auxiliary aids should be directed to the Council office (see ADDRESSES) by November 28, 2011.

Dated: November 15, 2011.
Tracey L. Thompson,
Acting Director, Office of Sustainable Fisheries, National Marine Fisheries Service.

[FR Doc. 2011-29826 Filed 11-17-11; 8:45 am]

BILLING CODE 3510-22-P